DEPARTMENT OF THE INTERIOR

Bureau of Ocean Energy Management

[Docket No. BOEM-2023-0056]

Notice of Availability of a Final Environmental Impact Statement for Sunrise Wind, LLC's Proposed Sunrise Wind Farm Offshore New York, Massachusetts, and Rhode Island

AGENCY: Bureau of Ocean Energy Management, Interior.

ACTION: Notice of availability; final environmental impact statement.

SUMMARY: The Bureau of Ocean Energy Management (BOEM) announces the availability of the final environmental impact statement (FEIS) on Sunrise Wind, LLC's (Sunrise Wind) construction and operations plan (COP) for its proposed Sunrise Wind Farm Project (Project) offshore New York, Massachusetts, and Rhode Island. The FEIS analyzes the potential environmental impacts of the Project as described in the COP (the proposed action) and the alternatives to the proposed action, including the no action alternative. The FEIS will inform BOEM's decision whether to approve, approve with modifications, or disapprove the COP.

ADDRESSES: The FEIS and detailed information about the Project, including the COP, can be found on BOEM's website at: https://www.boem.gov/renewable-energy/state-activities/sunrise-wind-activities.

FOR FURTHER INFORMATION CONTACT: Jessica Stromberg, BOEM Office of Renewable Energy Programs, 45600 Woodland Road, Sterling, Virginia 20166, (703) 787-1730 or jessica.stromberg@boem.gov.

SUPPLEMENTARY INFORMATION:

Proposed Action: Sunrise Wind seeks approval to construct, operate, and maintain a wind energy facility and its associated export cables on the Outer Continental Shelf (OCS) offshore New York, Massachusetts, and Rhode Island. The Project would be developed within the range of design parameters outlined in the Sunrise Wind COP, subject to the applicable mitigation measures.

The Project as proposed in the COP would include up to 94 wind turbine generators (WTGs) within 102 potential locations, one offshore converter station, inter-array cables linking the individual WTGs to the offshore substation, one offshore export cable, one onshore converter station, one fiber optic cable co-located with the onshore transmission route, and onshore interconnection cables connecting to the existing electrical grid in New York. The WTGs, offshore substation, and inter-array cables would be located on the OCS approximately 16.4 nautical miles (nm) (18.9 statute miles (mi)) south of Martha's Vineyard, Massachusetts, approximately 26.5 nm (30.5 mi) east of Montauk, New York, and 14.5 nm (16.7 mi) from Block Island, Rhode Island, within the area defined by Renewable Energy Lease OCS-A 0487. The offshore export cables would be buried below the seabed surface on the U.S. OCS and State of New York-owned submerged lands. The onshore export cables, substation, and grid connection would be located in Holbrook, New York.

Alternatives: BOEM considered 16 alternatives when preparing the draft environmental impact statement and carried forward three alternatives for further analysis in the FEIS. These three alternatives include two action alternatives and the no action alternative. Thirteen alternatives were not analyzed in detail because they did not meet the purpose and need for the proposed action or did not meet screening criteria, which are presented in FEIS chapter 2. The screening criteria included consistency with law and regulations; technical and economic feasibility; environmental impacts; and geographic considerations.

Availability of the FEIS: The FEIS, Sunrise Wind COP, and associated information are available on BOEM's website at: https://www.boem.gov/renewable-energy/state-activities/sunrise-wind-activities. BOEM has distributed digital copies of the FEIS to all parties listed in FEIS appendix M. If you require a flash drive or paper copy, BOEM will provide one upon request, as long as supplies are available. You may request a flash drive or paper copy of the FEIS by contacting Genevieve Brune at (703) 787-1553 or genevieve.brune@boem.gov.

Cooperating Agencies: The following Federal agencies and State governmental entities participated as cooperating agencies under the National Environmental Policy Act in the preparation of the FEIS: Bureau of Safety and Environmental Enforcement; U.S. Environmental Protection Agency; National Marine Fisheries Service; U.S. Army Corps of Engineers; U.S. Coast Guard; National Park Service; U.S. Fish and Wildlife Service; New York Department of State; Massachusetts Office of Coastal Zone Management; Rhode Island Coastal Resources Management Council; and the Rhode Island Department of Environmental Management.

Authority: 42 U.S.C. 4231 et seq. (NEPA, as amended) and 40 CFR 1506.6.

Karen Baker,
Chief, Office of Renewable Energy Programs, Bureau of Ocean Energy Management.

[FR Doc. 2023-27561 Filed 12-14-23; 8:45 am]

BILLING CODE 4340-98-P